DEPARTMENT OF TRANSPORTATION

Federal Aviation Administration

14 CFR Part 97

[Docket No. 30903; Amdt. No. 3538]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 10, 2013. The compliance date for each SIAP, associated Takeoff Minimums, and ODP is specified in the amendatory provisions.

The incorporation by reference of certain publications listed in the regulations is approved by the Director of the Federal Register as of June 10, 2013.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169; or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (air).

Issued in Washington, DC, on May 24, 2013.
John M. Allen,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
6/27/13 | NE | Alliance | Alliance Muni | 2/3777 | 5/22/13 | NDB RWY 12, Orig.
6/27/13 | AK | McGrath | McGrath | 2/7217 | 5/13/13 | Takeoff Minimums and (Obstacle) DP, Amdt 2.
6/27/13 | OR | Portland | Portland-Hillsboro | 3/0302 | 5/10/13 | RNAV (GPS) RWY 31, Orig-A.
6/27/13 | AZ | Phoenix | Phoenix-Mesa Gateway | 3/0620 | 5/8/13 | RNAV (GPS) RWY 12C, Amdt 1.
6/27/13 | CA | Big Bear City | Big Bear City | 3/0625 | 5/10/13 | RNAV (GPS) RWY 26, Orig-A.
6/27/13 | NC | Wadesboro | Anson County—Jeff Cloud Field | 3/1517 | 5/16/13 | ILS OR LOC RWY 34, Orig.
6/27/13 | MD | Baltimore | Baltimore/Washington Intl Thurgood Marshall | 3/1524 | 5/10/13 | ILS OR LOC RWY 10, ILS RWY 10 (SA CAT I), ILS RWY 10 (CAT II), ILS RWY 10 (CAT III), Amdt 21.
6/27/13 | NJ | Teterboro | Teterboro | 3/1577 | 5/16/13 | VOR RWY 24, Orig-B.
6/27/13 | AZ | Phoenix | Phoenix-Mesa Gateway | 3/1690 | 5/8/13 | ILS OR LOC RWY 30C, Amdt 3.
6/27/13 | AZ | Phoenix | Phoenix-Mesa Gateway | 3/1691 | 5/8/13 | VOR OR TACAN RWY 30C, Amdt 2.
6/27/13 | TN | Smyrna | Smyrna | 3/1964 | 5/16/13 | ILS OR LOC RWY 32, Amdt 5C.
6/27/13 | TN | Smyrna | Smyrna | 3/1965 | 5/16/13 | RNAV (GPS) RWY 14, Orig-A.
6/27/13 | TN | Smyrna | Smyrna | 3/1966 | 5/16/13 | VOR/DME RWY 14, Amdt 7A.
6/27/13 | TN | Smyrna | Smyrna | 3/1967 | 5/16/13 | RNAV (GPS) RWY 32, Orig-A.
6/27/13 | TN | Smyrna | Smyrna | 3/1968 | 5/16/13 | NDB RWY 32, Amdt 9A.
6/27/13 | TN | Smyrna | Smyrna | 3/1969 | 5/16/13 | VOR/DME RWY 32, Amdt 13A.
6/27/13 | NE | Mc Cook | Mc Cook Ben Nelson Rgnl | 3/2345 | 5/8/13 | VOR RWY 30, Amdt 11.
6/27/13 | NE | Mc Cook | Mc Cook Ben Nelson Rgnl | 3/2346 | 5/8/13 | VOR RWY 12, Amdt 12.
6/27/13 | NE | Mc Cook | Mc Cook Ben Nelson Rgnl | 3/2347 | 5/8/13 | VOR RWY 22, Amdt 4E.
6/27/13 | NE | Mc Cook | Mc Cook Ben Nelson Rgnl | 3/2348 | 5/8/13 | RNAV (GPS) RWY 22, Orig-B.
6/27/13 | NE | Mc Cook | Mc Cook Ben Nelson Rgnl | 3/2349 | 5/8/13 | RNAV (GPS) RWY 30, Orig-A.
6/27/13 | CA | Sacramento | Sacramento Intl | 3/2574 | 5/16/13 | RNAV (RNP) Z RWY 34R, Orig.
6/27/13 | CA | Sacramento | Sacramento Intl | 3/2575 | 5/16/13 | RNAV (GPS) Y RWY 16L, Amdt 1.
6/27/13 | CA | Sacramento | Sacramento Intl | 3/2577 | 5/16/13 | ILS OR LOC RWY 16L, Amdt 2.
6/27/13 | CA | Sacramento | Sacramento Intl | 3/2587 | 5/16/13 | RNAV (RNP) Z RWY 16L, Orig.
6/27/13 | NC | Concord | Concord Rgnl | 3/2606 | 5/16/13 | RNAV (GPS) RWY 2, Orig.
6/27/13 | WA | Yakima | Yakima Air Terminal/Mcallister Field | 3/2641 | 5/10/13 | VOR/DME OR TACAN RWY 27, Amdt 8.
6/27/13 | IN | Muncie | Delaware County Rgnl | 3/2642 | 5/16/13 | VOR RWY 14, Amdt 17.
6/27/13 | IN | Muncie | Delaware County Rgnl | 3/2645 | 5/16/13 | ILS OR LOC RWY 32, Amdt 9B.
6/27/13 | IN | Muncie | Delaware County Rgnl | 3/2646 | 5/16/13 | RNAV (GPS) RWY 32, Orig.
6/27/13 | WA | Hoquiam | Bowerman | 3/2796 | 5/16/13 | RNAV (GPS) RWY 6, Amdt 1.
6/27/13 | WA | Hoquiam | Bowerman | 3/2798 | 5/16/13 | RNAV (GPS) RWY 24, Amdt 2A.
6/27/13 | WA | Hoquiam | Bowerman | 3/2799 | 5/16/13 | ILS OR LOC/DME RWY 24, Amdt 4.
6/27/13 | CA | Marysville | Yuba County | 3/2897 | 5/10/13 | Takeoff Minimums and (Obstacle) DP, Amdt 1.
6/27/13 | CA | Marysville | Yuba County | 3/2975 | 5/8/13 | ILS OR LOC RWY 14, Amdt 5A.
6/27/13 | KS | Manhattan | Manhattan Rgnl | 3/3414 | 5/16/13 | ILS OR LOC/DME RWY 3, Amdt 7.
6/27/13 | MI | Saginaw | Saginaw County H.W. Browne | 3/3503 | 5/8/13 | RNAV (GPS) RWY 27, Amdt 1B.
6/27/13 | MI | Saginaw | Saginaw County H.W. Browne | 3/3505 | 5/8/13 | RNAV (GPS) RWY 9, Orig-A.
6/27/13 | MI | Saginaw | Saginaw County H.W. Browne | 3/3506 | 5/8/13 | ILS OR LOC/DME RWY 27, Orig-B.
6/27/13 | SC | Greer | Greenville Spartanburg Intl | 3/3777 | 5/16/13 | ILS OR LOC RWY 22, Amdt 5.
6/27/13 | FL | Zephyrhills | Zephyrhills Muni | 3/3786 | 5/16/13 | NDB RWY 22, Amdt 1.
6/27/13 | FL | Zephyrhills | Zephyrhills Muni | 3/3792 | 5/16/13 | NDB RWY 18, Amdt 1.
6/27/13 | FL | Zephyrhills | Zephyrhills Muni | 3/3793 | 5/16/13 | NDB RWY 4, Amdt 1.
6/27/13 | FL | Zephyrhills | Zephyrhills Muni | 3/3795 | 5/16/13 | NDB RWY 36, Amdt 1.
6/27/13 | FL | Zephyrhills | Zephyrhills Muni | 3/3796 | 5/16/13 | RNAV (GPS) RWY 18, Orig.
6/27/13 | FL | Zephyrhills | Zephyrhills Muni | 3/3797 | 5/16/13 | RNAV (GPS) RWY 36, Orig.
6/27/13 | FL | Zephyrhills | Zephyrhills Muni | 3/3798 | 5/16/13 | RNAV (GPS) RWY 22, Orig.
6/27/13 | WI | Appleton | Outagamie County Rgnl | 3/3890 | 5/16/13 | ILS OR LOC RWY 30, Amdt 3.
6/27/13 | MA | Worcester | Worcester Rgnl | 3/3943 | 5/15/13 | ILS OR LOC RWY 11, Amdt 23.
6/27/13 | VA | Martinsville | Blue Ridge | 3/3995 | 5/15/13 | LOC RWY 30, Amdt 1A.
6/27/13 | OK | Lawton | Lawton-Fort Sill Rgnl | 3/4074 | 5/16/13 | ILS OR LOC RWY 35, Amdt 7E.
6/27/13 | CO | Denver | Denver Intl | 3/4138 | 5/8/13 | RNAV (RNP) Z RWY 25, Orig.
6/27/13 | GA | Pine Mountain | Harris County | 3/4472 | 5/15/13 | RNAV (GPS) RWY 9, Orig.
6/27/13 | GA | Pine Mountain | Harris County | 3/4473 | 5/15/13 | VOR A, Amdt 5.
6/27/13 | GA | Pine Mountain | Harris County | 3/4474 | 5/15/13 | NDB RWY 9, Amdt 9.
6/27/13 | MS | Columbus | Columbus-Lowndes County | 3/4478 | 5/15/13 | RNAV (GPS) RWY 36, Orig.
6/27/13 | MS | Columbus | Columbus-Lowndes County | 3/4479 | 5/15/13 | RNAV (GPS) RWY 18, Orig-A.
6/27/13 | MS | Columbus | Columbus-Lowndes County | 3/4480 | 5/15/13 | VOR A, Amdt 13.
6/27/13 | RI | Block Island | Block Island State | 3/4484 | 5/15/13 | RNAV (GPS) RWY 10, Orig-B.
6/27/13 | RI | Block Island | Block Island State | 3/4485 | 5/15/13 | VOR/DME RWY 10, Amdt 5B.
6/27/13 | NC | Siler City | Siler City Muni | 3/4488 | 5/15/13 | VOR OR GPS A, Amdt 2.
6/27/13 | TN | Jamestown | Jamestown Muni | 3/4489 | 5/15/13 | VOR/DME OR GPS A AMDT 1A.
6/27/13 | NC | Shelby | Shelby-Cleveland County Rgnl | 3/4490 | 5/14/13 | NDB RWY 23, Amdt 1A.
6/27/13 | PA | Allentown | Allentown Queen City Muni | 3/4491 | 5/14/13 | RNAV (GPS) RWY 7, AMDT 1.
6/27/13 | MS | Jackson | Jackson-Evers Intl | 3/4610 | 5/15/13 | RADAR-1, Amdt 11B.
6/27/13 | RI | Block Island | Block Island State | 3/4612 | 5/15/13 | RNAV (GPS) RWY 28, Amdt 1.
6/27/13 | NY | New York | La Guardia | 3/4773 | 5/15/13 | ILS OR LOC RWY 13, Amdt 1.
6/27/13 | AK | Savoonga | Savoonga | 3/4787 | 5/13/13 | VOR/DME RWY 23, Amdt 1.
6/27/13 | AK | Savoonga | Savoonga | 3/4788 | 5/13/13 | VOR RWY 23, Amdt 1.
6/27/13 | AK | Savoonga | Savoonga | 3/4916 | 5/13/13 | RNAV (GPS) RWY 23, Amdt 1.
6/27/13 | NV | Ely | Ely Arpt/Yelland Fld/ | 3/4917 | 5/16/13 | VOR A, Amdt 7.
6/27/13 | VA | Richmond/Ashland | Hanover County Muni | 3/5374 | 5/14/13 | RNAV (GPS) RWY 16, Orig-A.
6/27/13 | VA | Richmond/Ashland | Hanover County Muni | 3/5375 | 5/14/13 | LOC RWY 16, Amdt 3A.
6/27/13 | VA | Richmond/Ashland | Hanover County Muni | 3/5376 | 5/14/13 | VOR RWY 16, Amdt 2A.
6/27/13 | NC | New Bern | Coastal Carolina Regional | 3/5416 | 5/14/13 | VOR RWY 4, Amdt 4A.
6/27/13 | GA | Washington | Washington-Wilkes County | 3/5475 | 5/14/13 | RNAV (GPS) RWY 31, Amdt 1.
6/27/13 | KY | Lexington | Blue Grass | 3/5492 | 5/14/13 | RNAV (GPS) RWY 9, Orig.
6/27/13 | WA | Pullman/Moscow, ID | Pullman/Moscow Rgnl | 3/6144 | 5/16/13 | RNAV (GPS) Y RWY 6, Amdt 2A.
6/27/13 | TX | Dallas-Fort Worth | Dallas/Fort Worth Intl | 3/6177 | 5/10/13 | ILS OR LOC RWY 35R, ILS RWY 35R (SA CAT I), ILS RWY 35R (CAT II), ILS RWY 35R (CAT III), Amdt 4.
6/27/13 | TX | Dallas-Fort Worth | Dallas/Fort Worth Intl | 3/6178 | 5/10/13 | ILS OR LOC RWY 17R, ILS RWY 17R (SA CAT I), ILS RWY 17R (SA CAT II), Amdt 23.
6/27/13 | IL | DeCATur | DeCATur | 3/6182 | 5/16/13 | LOC BC RWY 24, Amdt 10C.
6/27/13 | TX | Commerce | Commerce Muni | 3/6249 | 5/15/13 | VOR/DME A, Amdt 3.
6/27/13 | TX | Dallas-Fort Worth | Dallas/Fort Worth Intl | 3/6536 | 5/16/13 | ILS OR LOC RWY 17C, ILS RWY 17C (SA CAT I), ILS RWY 17C (CAT II), ILS RWY 17C (CAT III), Amdt 10.
6/27/13 | MN | Minneapolis | Minneapolis-St Paul Intl/Wold Chamberlain | 3/6544 | 5/16/13 | ILS OR LOC RWY 12R, ILS RWY 12R (SA CAT I), ILS RWY 12R (CAT II), ILS RWY 12R (CAT III), Amdt 10.
6/27/13 | SC | Kingstree | Williamsburg Rgnl | 3/6608 | 5/16/13 | RNAV (GPS) RWY 32, Orig.
6/27/13 | TX | Dallas-Fort Worth | Dallas/Fort Worth Intl | 3/6609 | 5/14/13 | RNAV (GPS) RWY 36L, Amdt 3.
6/27/13 | SC | Kingstree | Williamsburg Rgnl | 3/6615 | 5/16/13 | NDB RWY 14, Amdt 4A.
6/27/13 | CA | Marysville | Yuba County | 3/6687 | 5/8/13 | VOR RWY 32, Amdt 10D.
6/27/13 | CA | Marysville | Yuba County | 3/6688 | 5/8/13 | RNAV (GPS) RWY 32, Orig.
6/27/13 | CA | Marysville | Yuba County | 3/6689 | 5/8/13 | RNAV (GPS) RWY 14, Orig.
6/27/13 | CA | Vacaville | Nut Tree | 3/6814 | 5/16/13 | RNAV (GPS) Y RWY 20, Orig.
6/27/13 | CO | Rifle | Garfield County Rgnl | 3/6815 | 5/8/13 | RNAV (GPS) X RWY 26, Amdt 1.
6/27/13 | CA | Camarillo | Camarillo | 3/7007 | 5/10/13 | RNAV (GPS) Z RWY 26, Orig.
6/27/13 | CA | Concord | Buchanan Field | 3/7009 | 5/10/13 | RNAV (GPS) Z RWY 19R, Orig.
6/27/13 | MT | Butte | Bert Mooney | 3/7010 | 5/10/13 | RNAV (GPS) Z RWY 15, Amdt 1A.
6/27/13 | UT | Ogden | Ogden-Hinckley | 3/7015 | 5/10/13 | RNAV (GPS) Z RWY 3, Orig-A.
6/27/13 | CA | Half Moon Bay | Half Moon Bay | 3/7018 | 5/10/13 | RNAV (GPS) Z RWY 30, Orig-A.
6/27/13 | CA | Half Moon Bay | Half Moon Bay | 3/7020 | 5/10/13 | RNAV (GPS) Z RWY 12, Orig-A.
6/27/13 | CA | Inyokern | Inyokern | 3/7067 | 5/8/13 | RNAV (GPS) Y RWY 2, Orig-A.
6/27/13 | CA | Inyokern | Inyokern | 3/7068 | 5/8/13 | RNAV (GPS) Z RWY 2, Orig.
6/27/13 | ID | Mc Call | Mc Call Muni | 3/7268 | 5/16/13 | RNAV (GPS) Z RWY 34, Orig.
6/27/13 | AR | Springdale | Springdale Muni | 3/7453 | 5/14/13 | ILS OR LOC RWY 18, Amdt 8B.
6/27/13 | AR | Springdale | Springdale Muni | 3/7456 | 5/14/13 | VOR/DME RWY 36, Amdt 9B.
6/27/13 | AR | Springdale | Springdale Muni | 3/7457 | 5/14/13 | VOR RWY 18, Amdt 15B.
6/27/13 | ID | Lewiston | Lewiston-Nez Perce County | 3/7488 | 5/16/13 | RNAV (GPS) Y RWY 12, Amdt 2.
6/27/13 | NC | Edenton | Northeastern Rgnl | 3/7545 | 5/14/13 | RNAV (GPS) RWY 19, Amdt 2.
6/27/13 | NC | Edenton | Northeastern Rgnl | 3/7549 | 5/14/13 | ILS OR LOC RWY 19, Orig.
6/27/13 | RQ | Ponce | Mercedita | 3/7660 | 5/10/13 | RNAV (GPS) RWY 12, Orig-A.
6/27/13 | GA | Atlanta | Hartsfield—Jackson Atlanta Intl | 3/7662 | 5/10/13 | RNAV (GPS) Y RWY 27R, Amdt 3.
6/27/13 | GA | Atlanta | Hartsfield—Jackson Atlanta Intl | 3/7664 | 5/10/13 | ILS OR LOC RWY 8L, ILS RWY 8L (SA CAT I), ILS RWY 8L (CAT II), ILS RWY 8L (CAT III), Amdt 4.
6/27/13 | GA | Atlanta | Hartsfield—Jackson Atlanta Intl | 3/7665 | 5/10/13 | ILS OR LOC RWY 9R, ILS RWY 9R (SA CAT I), ILS RWY 9R (CAT II), ILS RWY 9R (CAT III), Amdt 18.
6/27/13 | IN | Angola | Tri-State Steuben County | 3/7679 | 5/13/13 | NDB RWY 5, Amdt 7.
6/27/13 | IN | Angola | Tri-State Steuben County | 3/7680 | 5/13/13 | RNAV (GPS) RWY 5, Orig-A.
6/27/13 | FL | Vero Beach | Vero Beach Muni | 3/7748 | 5/14/13 | VOR RWY 11R, Amdt 14.
6/27/13 | GA | Jefferson | Jackson County | 3/7750 | 5/10/13 | VOR/DME RWY 35, Amdt 2.
6/27/13 | GA | Jefferson | Jackson County | 3/7751 | 5/10/13 | RNAV (GPS) RWY 35, Amdt 2.
6/27/13 | GA | Jefferson | Jackson County | 3/7752 | 5/10/13 | RNAV (GPS) RWY 17, Amdt 2.
6/27/13 | MD | Frederick | Frederick Muni | 3/7770 | 5/10/13 | RNAV (GPS) Z RWY 23, Orig-C.
6/27/13 | NJ | Atlantic City | Atlantic City Intl | 3/7820 | 5/14/13 | RNAV (RNP) Z RWY 13, Orig-A.
6/27/13 | NJ | Atlantic City | Atlantic City Intl | 3/7822 | 5/14/13 | RNAV (RNP) Z RWY 31, Orig-A.
6/27/13 | AK | Soldotna | Soldotna | 3/7899 | 5/16/13 | VOR/DME A, Amdt 7B.
6/27/13 | MO | Osage Beach | Grand Glaize- Osage Beach | 3/8153 | 5/14/13 | VOR RWY 32, Amdt 6.
6/27/13 | MO | Camdenton | Camdenton Memorial | 3/8171 | 5/13/13 | VOR A, Amdt 5.
6/27/13 | AK | Dillingham | Dillingham | 3/8215 | 5/16/13 | VOR RWY 1, Amdt 9.
6/27/13 | AK | Dillingham | Dillingham | 3/8217 | 5/16/13 | LOC/DME RWY 19, Amdt 6A.
6/27/13 | AK | Dillingham | Dillingham | 3/8218 | 5/16/13 | VOR/DME RWY 19, Amdt 7.
6/27/13 | AK | Dillingham | Dillingham | 3/8219 | 5/16/13 | RNAV (GPS) RWY 19, Amdt 2.
6/27/13 | AK | Fairbanks | Fairbanks Intl | 3/8221 | 5/21/13 | RNAV (GPS) Y RWY 2L, Orig-B.
6/27/13 | AK | Dillingham | Dillingham | 3/8232 | 5/16/13 | RNAV (GPS) RWY 1, Amdt 2.
6/27/13 | WA | Seattle | Seattle-Tacoma Intl | 3/8256 | 5/13/13 | ILS RWY 34L, (SA CAT I & II), Amdt 1.
6/27/13 | IL | Belleville | Scott AFB/MidAmerica | 3/8492 | 5/14/13 | ILS OR LOC/DME RWY 32L, Amdt 1.
6/27/13 | AZ | Phoenix | Phoenix Sky Harbor Intl | 3/8524 | 5/16/13 | ILS OR LOC RWY 25L, Amdt 1F.
6/27/13 | CA | Palm Springs | Palm Springs Intl | 3/8527 | 5/16/13 | Takeoff Minimums and (Obstacle) DP, Amdt 5.
6/27/13 | AK | Cold Bay | Cold Bay | 3/8534 | 5/16/13 | RNAV (GPS) RWY 33, Amdt 2.
6/27/13 | AK | Cold Bay | Cold Bay | 3/8535 | 5/16/13 | LOC/DME BC RWY 33, Amdt 10.
6/27/13 | WI | Milwaukee | Lawrence J Timmerman | 3/8568 | 5/14/13 | Takeoff Minimums and (Obstacle) DP, Amdt 1.
6/27/13 | KS | Ulysses | Ulysses | 3/8569 | 5/14/13 | Takeoff Minimums and (Obstacle) DP, Amdt 2A.
6/27/13 | NE | Sidney | Sidney Muni/Lloyd W. Carr Field | 3/8570 | 5/14/13 | VOR/DME OR TACAN RWY 13, Amdt 5.
6/27/13 | NE | Sidney | Sidney Muni/Lloyd W. Carr Field | 3/8571 | 5/14/13 | VOR/DME OR TACAN RWY 31, Amdt 5.
6/27/13 | OH | Toledo | Toledo Express | 3/9108 | 5/15/13 | VOR/DME RWY 34, Amdt 7A.
6/27/13 | OH | Toledo | Toledo Express | 3/9109 | 5/15/13 | RADAR-1, Amdt 19A.
6/27/13 | CA | Redding | Redding Muni | 3/9263 | 5/16/13 | ILS OR LOC/DME RWY 34, Amdt 11A.
6/27/13 | CA | Redding | Redding Muni | 3/9264 | 5/16/13 | VOR RWY 34, Amdt 10D.
6/27/13 | MI | Lansing | Capital Region Intl | 3/9410 | 5/8/13 | ILS OR LOC RWY 28L, Amdt 26B.

[FR Doc. 2013-13364 Filed 6-7-13; 8:45 am]

BILLING CODE 4910-13-P